DEPARTMENT OF THE INTERIOR

National Park Service

Notice of Inventory Completion: University of Denver Department of Anthropology and Museum of Anthropology, Denver, CO; Correction

AGENCY: National Park Service, Interior.

ACTION: Notice; correction.

Notice is here given in accordance with the Native American Graves Protection and Repatriation Act (NAGPRA), 25 U.S.C. 3003, of the completion of an inventory of human remains and associated funerary objects in the possession of the University of Denver Department of Anthropology and Museum of Anthropology, Denver, CO.

This notice is published as part of the National Park Service's administrative responsibilities under NAGPRA, 25 U.S.C. 3003 (d)(3). The determinations in this notice are the sole responsibility of the museum, institution, or Federal agency that has control of the cultural items. The National Park Service is not responsible for the determinations in this notice.

The notice corrects the cultural affiliation of a minimum of six individuals that were described in a Notice of Inventory Completion published in the Federal Register of October 4, 2001, (FR Doc 01-24931, pages 50676-50677). After further consideration of museum records, morphological evidence, and tribal consultation, officials of the University of Denver Department of Anthropology and Museum of Anthropology have determined that there is not sufficient available evidence to lead to a reasonable determination that the six individuals (catalog numbers DU6061, DU6068, DU6069, DU6070, and DU6181) are culturally affiliated, pursuant to 25 U.S.C. 3001 (2), and therefore are culturally unidentifiable.

Museum officials contracted a research archeologist and conducted additional consultations since October 4, 2001, with representatives of the Hopi Tribe of Arizona; Navajo Nation, Arizona, New Mexico & Utah; Ohkay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Sandia, New Mexico; Pueblo of Santa Ana, New Mexico; Pueblo of Santa Clara, New Mexico; Pueblo of Taos, New Mexico; Pueblo of Tesuque, New Mexico; Pueblo of Zia, New Mexico; and Zuni Tribe of the Zuni Reservation, New Mexico. Reports and correspondence was also conducted with representatives from Pueblo of Picuris, New Mexico; Pueblo of San Felipe, New Mexico; Pueblo of San Ildefonso, New Mexico; Pueblo of Santo Domingo, New Mexico; and Ysleta Del Sur Pueblo of Texas.

Field notes for the human remains representing the six individuals do not exist. The collector, Dr. E.B. Renaud, founder of the University of Denver Department of Anthropology, identified the individuals as “Pueblo,” due to cranial reshaping that resulted from “cradleboarding.” Officials at the University of Denver Department of Anthropology and Museum of Anthropology recognize that scholars have historically attributed the activity of cradleboarding to Pueblo Tribes, but during consultation, Pueblo officials cited examples of other groups who used cradleboards. In the absence of specific archeological dates or any location information, tribal representatives agreed that cranial flattening was not specifically a Pueblo cultural practice.

In the Federal Register of October 4, 2001, (FR Doc. 01-24931, pages 50676-50677), the Notice of Inventory Completion is corrected by deleting paragraph numbers 4 and 5 that describe the six individuals; and substituting paragraphs 6 to 9 with the following paragraphs:

In 1939, human remains representing a minimum of one individual (catalog number 1995.1.1) were collected by Theodore Sowers, a graduate of the University of Denver. In 1995, his daughters donated the human remains to the University of Denver so that they could be repatriated. No known individual was identified. The 42 associated funerary objects are 9 projectile points (stemmed, side notched, and corner notched); 1 stone pipe (also identified during consultation as a “cloud blower”); 1 bone tool (also identified during consultation as a turkey call); 3 stone knives; 3 stone scrapers; 1 sinker; 2 stone drills; 3 bone awls; 5 flaked tools; 1 flake; 8 unworked stone; 3 fossils; 1 copper ore fragment; and 1 piece of sulfur.

The human remains and associated funerary objects were originally described as being recovered from Mesa Portales, Sandoval County, NM, however, additional research has uncovered labels and box tags that also indicate Dinwoody Cave and Folsom, NM. The labeling ambiguity makes it impossible to identify a site. However, a determination on cultural affiliation can be reached through the associated funerary objects.

Diagnostic artifacts appear to span the time period between 6,000 B.C. and A.D. 500, based on a comparison of five projectile points associated with the human remains and the typology established by Cynthia Irwin-Williams (1973). The projectile points are interpreted to correspond to the Oshara Tradition, and to reflect the transition from Archaic to Ancestral Puebloan adaptations. Specifically, the projectile points include stemmed, corner-notched, and side-notched tools that appear to be of the Jay, Bajada, San Jose, Armijo, and En Medio types characterized by Dr. Irwin-Williams. Exploitation of large, medium, and small sized fauna, along with natural floral resources is reflected by the earlier point styles. The later Armijo and En Medio styles suggest a time period where the exploitation of natural and domestic flora was practiced. The transition from the Oshara tradition to the Ancestral Puebloan is fluid according to Dr. Irwin-Williams. The projectile points were also identified as Pueblo by several tribal representatives. The remainder of the assemblage associated with the individual contains bone and other stone tools that mirror the collection of projectile points from the site and indicate a transitional and likely multi-component occupation of the site where they were collected. It should be noted that the presence of bone tools could indicate that human remains and funerary objects were recovered from a cave or otherwise sheltered environment that allowed their preservation.

Museum officials have concluded that the material culture and the expert opinion of tribal representatives and scholars support an Ancestral Puebloan cultural affiliation for the one individual. The scientific literature provides significant evidence of cultural affiliation between ancestral Puebloan culture and the Pueblos of today. Descendants of Puebloan culture are members of the Hopi Tribe of Arizona; Ohkay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico.

Officials of the University of Denver Department of Anthropology and Museum of Anthropology have determined that, pursuant to 25 U.S.C. 3001 (9-10), the human remains described above represent the physical remains of a minimum of one individual of Native American ancestry. Officials of the University of Denver Department of Anthropology and Museum of Anthropology also have determined that, pursuant to 25 U.S.C. 3001 (3)(A), the 42 objects described above are reasonably believed to have been placed with or near individual human remains at the time of death or later as part of the death rite or ceremony. Lastly, officials of the University of Denver Department of Anthropology and Museum of Anthropology have determined that, pursuant to 25 U.S.C. 3001 (2), the preponderance of the evidence supports a relationship of shared group identity that can be reasonably traced between the Native American human remains and associated funerary objects and the Hopi Tribe of Arizona; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico.

Representatives of any other Indian tribe that believes itself to be culturally affiliated with the human remains and associated funerary objects should contact Dr. Christina Kreps, University of Denver Museum of Anthropology, Sturm 146, Denver, CO 80208, telephone (303) 871-2688, before November 20, 2008. Repatriation of the human remains and associated funerary objects to the Hopi Tribe of Arizona; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico may proceed after that date if no additional claimants come forward.

The University of Denver Museum of Anthropology is responsible for notifying the Hopi Tribe of Arizona; Navajo Nation, Arizona, New Mexico & Utah; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Ysleta Del Sur Pueblo of Texas; and Zuni Tribe of the Zuni Reservation, New Mexico.

Dated: February 13, 2008
Sherry Hutt,
Manager, National NAGPRA Program.

Editorial Note: This document was received at the Office of the Federal Register October 16, 2008.

[FR Doc. E8-24964 Filed 10-20-08; 8:45 am]

BILLING CODE 4312-50-S